DEPARTMENT OF ENERGY

Federal Energy Regulatory Commission

[Docket No. CP08-88-000]

Texas Eastern Transmission, LP; Notice of Request Under Blanket Authorization

March 13, 2008

Take notice that on March 7, 2008, Texas Eastern Transmission, LP (Texas Eastern), Post Office Box 1642, Houston, Texas 77251-1642, filed in Docket No. CP08-88-000, an application pursuant to sections 157.205, 157.208, and 157.212 of the Commission's Regulations under the Natural Gas Act (NGA) as amended, to construct, own, and operate a new receipt point to receive revaporized liquefied natural gas near Eunice, Evangeline Parish, Louisiana, under Texas Eastern's blanket certificate issued in Docket No. CP82-535-000,¹ all as more fully set forth in the application which is on file with the Commission and open to the public for inspection.

¹ 21 FERC ¶ 62,199 (1982).

Texas Eastern states that it proposes to construct, own, and operate a new receipt point on Texas Eastern's 30-inch diameter Lines Nos. 14 and 18 to receive revaporized liquefied natural gas from the Sabine Pass LNG, L.P. LNG import terminal located in Cameron Parish, Louisiana, via Kinder Morgan Louisiana Pipeline (Kinder Morgan). The taps into Texas Eastern's mainline would be located in Evangeline Parish, Louisiana. This new receipt point would provide Texas Eastern with the ability to receive up to 500 MMcf of natural gas per day from Kinder Morgan into Texas Eastern's pipeline system. Texas Eastern also states that the addition of the receipt point would have no significant impact on Texas Eastern's peak day or annual deliveries and is not prohibited by Texas Eastern's FERC Gas Tariff. Texas Eastern further states that it would be reimbursed by Kinder Morgan for the estimated $2,109,396 total cost to construct and operate the proposed receipt point facilities.

Any questions concerning this application may be directed to Garth Johnson, General Manager, Certificates & Reporting, Texas Eastern Transmission, LP, P.O. Box 1642, Houston, Texas 77251-1642, via telephone at (713) 627-5415, or facsimile (713) 627-5947.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Kimberly D. Bose,
Secretary.

[FR Doc. E8-5593 Filed 3-19-08; 8:45 am]

BILLING CODE 6717-01-P